ENVIRONMENTAL PROTECTION AGENCY

[FRL-9980-14—Region 2]

Proposed CERCLA Cost Recovery Settlement for the Gowanus Canal Superfund Site, Brooklyn, Kings County, New York

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA, with the Estate of Daniel Tinneny, Two Dans Enterprises Ltd., Tinneny President Street LLC, Tinneny 323-325 LLC, 383 Carroll Street LLC, and 426 President Street LLC (collectively “Settling Parties”) related to the Gowanus Canal Superfund Site (“Site”), located in Brooklyn, Kings County, New York. This notice informs the public of its opportunity to comment on the settlement.

DATES: Comments must be submitted on or before August 1, 2018.

ADDRESSES: Written comments should be addressed to the EPA employee identified below. The proposed settlement is available for public inspection at EPA Region 2 offices at 290 Broadway, New York, New York 10007-1866. Comments should reference the Gowanus Canal Superfund Site, located in Brooklyn, Kings County, New York, Index No. II-CERCLA-02-2018-2005. To request a copy of the proposed settlement agreement, please contact the EPA employee identified below.

FOR FURTHER INFORMATION CONTACT: Brian Carr, Attorney, Office of Regional Counsel, New York/Caribbean Superfund Branch, U.S. Environmental Protection Agency, 290 Broadway, 17th Floor, New York, NY 10007-1866. Email: carr.brian@epa.gov, Telephone: 212-637-3170.

SUPPLEMENTARY INFORMATION: EPA alleges that Settling Parties are responsible parties pursuant to Section 107(a) of CERCLA, 42 U.S.C. 9607(a), and are jointly and severally liable for response costs incurred or to be incurred at or in connection with the Site. Within 7 days of the Effective Date of this Settlement Agreement, Settling Parties shall pay to the EPA Hazardous Substance Superfund the amount of $164,400.00. The total amount paid by Settling Parties pursuant to this Settlement Agreement shall be deposited in the Gowanus Canal Special Account within the EPA Hazardous Substance Superfund to be retained and used to conduct or finance response actions at or in connection with the Site, or to be transferred by EPA to the EPA Hazardous Substance Superfund.

The settlement includes a covenant by EPA not to sue or to take administrative action against the Settling Parties pursuant to Sections 106 and 107(a) of CERCLA, 42 U.S.C. 9606 and 9607(a), regarding the Site. For thirty (30) days following the date of publication of this notice, EPA will receive written comments relating to the settlement. EPA will consider all comments received and may modify or withdraw its consent to the settlement if comments received disclose facts or considerations that indicate that the proposed settlement is inappropriate, improper, or inadequate. EPA's response to any comments received will be available for public inspection at EPA Region 2, 290 Broadway, New York, New York 10007-1866.

Dated: June 11, 2018.
John Prince,
Acting Director, Emergency and Remedial Response Division, U.S. Environmental Protection Agency, Region 2.

[FR Doc. 2018-14196 Filed 6-29-18; 8:45 am]

BILLING CODE 6560-50-P